DEPARTMENT OF TRANSPORTATION

Office of the Secretary of Transportation

[DOT Docket No. DOT-OST-2010-0074]

The Future of Aviation Advisory Committee (FAAC) Subcommittee on Financing; Notice of Meeting

AGENCY: U.S. Department of Transportation, Office of the Secretary of Transportation.

ACTION: Notice of meeting.

SUMMARY: The Department of Transportation, Office of the Secretary of Transportation, announces a meeting of the FAAC Financing Subcommittee, which will be held at the offices of the Cessna Aircraft Company, in Wichita, Kansas. This notice announces the date, time, and location of the meeting, which will be open to the public. The purpose of the FAAC is to provide advice and recommendations to the Secretary of Transportation to ensure the competitiveness of the U.S. aviation industry and its capability to manage effectively the evolving transportation needs, challenges, and opportunities of the global economy. The Financing Subcommittee will address the need for a stable, secure, and sufficient level of funding for our aviation system and make recommendations to the Secretary for action. This is the first meeting of the subcommittee.

DATES: The meeting will be held on June 29, 2010, from 1 p.m. to 4 p.m. Central Daylight time.

ADDRESSES: The meeting will be held at the Cessna Aircraft Company Employment Building, Training Conference Room C, Two Cessna Boulevard, Wichita, Kansas 67277.

Public Access: The meeting is open to the public. (See below for registration instructions.)

Public Comments: Persons wishing to offer written comments and suggestions concerning the activities of the advisory committee or financing subcommittee should file comments in the Public Docket (Docket Number DOT-OST-2010-0074 at http://www.Regulations.Gov) or alternatively through the FAAC@dot.gov e-mail. If comments and suggestions are intended specifically for the Financing Subcommittee, the term “Finance” should be listed in the subject line of the message. In order to ensure that such comments can be considered by the Subcommittee before its June 29, 2010, meeting, public comments must be filed by 5 p.m. Eastern Daylight time on Monday, June 21, 2010.

SUPPLEMENTARY INFORMATION:

Background

Under section 10(a)(2) of the Federal Advisory Committee Act (5 U.S.C. App. 2), we are giving notice of an FAAC Financing Subcommittee meeting taking place on June 29, 2010, from 1 p.m. to 4 p.m. Central Daylight time, at the Cessna Aircraft Company, Two Cessna Boulevard, Wichita, Kansas. The agenda includes—

1. Introduction and purpose of Subcommittee,

2. Discussion and selection of topics for study and on which to make recommendations to the full Advisory Committee, and

3. Next Steps and next meeting coordination.

Registration

Due to space constraints at the Cessna Aircraft Company and planning considerations, persons desiring to attend must pre-register by sending an e-mail to FAAC@dot.gov before June 21, 2010. The term “Registration: Financing” must be listed in the subject line of the message. Minutes of the meeting will be taken and made available to the public.

Request for Special Accommodation

The DOT is committed to providing equal access to this meeting for all participants. If you need alternative formats or services because of a disability, please send a request to FAAC@dot.gov with the term “Special Accommodations” listed in the subject line of the message by close of business on June 21, 2010.

FOR FURTHER INFORMATION CONTACT: John Hennigan, Air Traffic Organization, Federal Aviation Administration, 800 Independence Avenue, SW., Room 409, Washington, DC 20591; (202) 631-6644.

Issued in Washington, DC, on June 11, 2010.
Pamela Hamilton-Powell,
Designated Federal Official, Future of Aviation Advisory Committee.

[FR Doc. 2010-14515 Filed 6-15-10; 8:45 am]

BILLING CODE 4910-13-P